DEPARTMENT OF ENERGY

Federal Energy Regulatory Commission

Combined Notice of Filings #2

Take notice that the Commission received the following electric rate filings:

Docket Numbers: ER17-339-000.

Applicants: 96WI 8ME, LLC.

Description: Supplement to November 10, 2016 96WI 8ME, LLC tariff filing.

Filed Date: 12/7/16.

Accession Number: 20161207-5220.

Comments Due: 5 p.m. ET 12/19/16.

Docket Numbers: ER17-532-000.

Applicants: PPA Grand Johanna LLC.

Description: Baseline eTariff Filing: Market Based Rate Tariff Baseline Filing to be effective 12/30/2016.

Filed Date: 12/13/16.

Accession Number: 20161213-5111.

Comments Due: 5 p.m. ET 1/3/17.

Docket Numbers: ER17-533-000.

Applicants: PJM Interconnection, L.L.C.

Description: § 205(d) Rate Filing: Queue Position #AB2-001, First Revised Service Agreement No. 3175 to be effective 11/15/2016.

Filed Date: 12/13/16.

Accession Number: 20161213-5112.

Comments Due: 5 p.m. ET 1/3/17.

Docket Numbers: ER17-534-000.

Applicants: Midcontinent Independent System Operator, Inc.

Description: § 205(d) Rate Filing: 2016-12-13_SA 2974 Missouri Basin Municipal-Marshall Cogen GIA (J391) to be effective 12/14/2016.

Filed Date: 12/13/16.

Accession Number: 20161213-5199.

Comments Due: 5 p.m. ET 1/3/17.

Docket Numbers: ER17-535-000.

Applicants: Entergy Louisiana, LLC.

Description: § 205(d) Rate Filing: ELL-SRMPA 12th Extension of Interim Agreement to be effective 1/1/2017.

Filed Date: 12/13/16.

Accession Number: 20161213-5203.

Comments Due: 5 p.m. ET 1/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2016.
Nathaniel J. Davis, Sr.,
Deputy Secretary.

[FR Doc. 2016-30543 Filed 12-19-16; 8:45 am]

BILLING CODE 6717-01-P